FEDERAL COMMUNICATIONS COMMISSION

[DA 09-2418]

Consumer Advisory Committee

AGENCY: Federal Communications Commission.

ACTION: Notice; announcement of meeting.

SUMMARY: This document announces the date and agenda of the Committee's next meeting.

DATES: The next meeting of the Committee will take place on Friday, December 4, 2009, 9 a.m. to 4 p.m., at the Commission's Headquarters Building, Room TW-C305, 445 12th Street, SW., Washington, DC 20554.

ADDRESSES: Federal Communications Commission, 445 12th Street, SW., Washington, DC 20554.

FOR FURTHER INFORMATION CONTACT: Scott Marshall, Consumer & Governmental Affairs Bureau, (202) 418-2809 (voice), (202) 418-0179 (TTY), or e-mail scott.marshall@fcc.gov.

SUPPLEMENTARY INFORMATION: This is a summary of the Commission's Public Notice DA 09-2418, released on November 13, 2009 announcing the agenda, date and time of the Committee's next meeting.

The Committee is organized under and will operate in accordance with the provisions of the Federal Advisory Committee Act, 5 U.S.C. App. 2 (1988).

The mission of the Committee is to make recommendations to the Commission regarding consumer issues within the jurisdiction of the Commission and to facilitate the participation of consumers (including people with disabilities and underserved populations, such as American Indians and persons living in rural areas) in proceedings before the Commission.

Each meeting of the full Committee will be open to the public. A notice of each meeting will be published in the Federal Register at least fifteen (15) days in advance of the meeting. Records will be maintained of each meeting and made available for public inspection.

Synopsis

At its December 4, 2009 meeting, the Committee is expected to consider recommendations and/or receive progress reports regarding captioned telephony, digital closed captioning and video description, Consumer Information, Disclosure, Truth in Billing Notice of Inquiry (CG Docket No. 09-158), web/new media design, and the new Electronic Comment Filing System. In connection with the development of the National Broadband Plan, the Committee will also host a roundtable discussion among consumer, regulatory, and industry leaders regarding consumer complaint resolution best practices. The Committee may also consider other consumer issues within the jurisdiction of the Commission. A limited amount of time on the agenda will be available for oral comments from the public. Meetings are open to the public and are broadcast on the Internet in Real Audio/Real Video format with captioning at http://www.fcc.gov/cgb/cac. Members of the public may address the Committee or may send written comments to: Scott Marshall, Designated Federal Officer of the Committee, at the address noted above.

The meeting site is fully accessible to people using wheelchairs or other mobility aids. Sign language interpreters, open captioning, assistive listening devices, and Braille copies of the agenda and handouts will be provided on site.

Simultaneous with the webcast, the meeting will be available through Accessible Event, a service that works with your web browser to make presentations accessible to people with disabilities. You can listen to the audio and use a screen reader to read displayed documents. You can also watch the video with open captioning. Accessible Event is available at http://accessibleevent.com. The web page prompts for an Event Code, which is 005202376. To learn about the features of Accessible Event, consult its User's Guide at http://accessibleevent.com/doc/user_guide/.

Other reasonable accommodations for people with disabilities are available upon request. The request should include a detailed description of the accommodation needed and contact information. Please provide as much advance notice as possible; last minute requests will be accepted, but may be impossible to fill. Send an e-mail to fcc504@fcc.gov or call the Consumer & Governmental Affairs Bureau at 202-418-0530 (voice), 202-418-0432 (TTY).

Federal Communications Commission.
Thomas Wyatt,
Deputy Chief, Consumer & Governmental Affairs Bureau.

[FR Doc. E9-27828 Filed 11-18-09; 8:45 am]

BILLING CODE 6712-01-P